ENVIRONMENTAL PROTECTION AGENCY

[OPP-2003-0170; FRL-7309-2]

Diazinon; Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by Syngenta Crop Protection, Inc. to voluntarily cancel the registrations for all of their products containing diazinon, O,O-Diethyl O-(2-isopropyl-6-methyl-4-pyrimidinyl) phosphorothioate. EPA intends to grant these requests by issuing a cancellation order at the close of the comment period for this announcement, unless the Agency receives substantive comments within the comment period that would merit its further review of these requests. It is EPA's intent that the effective date of the cancellation order, as requested by Syngenta, will be June 30, 2003. Syngenta's April 8, 2003 cancellation request is contingent upon EPA's granting of certain existing stocks provisions, which are set forth in this Notice.

DATES: Comments on the requested registration cancellations must be submitted to the address provided below and identified by docket ID number OPP-2003-0170. Comments must be received on or before June 30, 2003.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0170. The official public docket consists of the documents specifically referenced in this action, any public comments received, and other information related to this action. Although a part of the official docket, the public docket does not include Confidential Business Information (CBI) or other information whose disclosure is restricted by statute. EPA also established two dockets containing documents in support of the diazinon IRED. They are dockets OPP-34225 and OPP-2002-0251. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of requests by Syngenta Crop Protection, Inc. to cancel all pesticide products containing diazinon that are registered under section 3 of FIFRA. These registrations are listed in sequence by registration number in Tables 1, 2, and 3 of this unit.

Table 1.—Manufacturing-Use Product Registrations with Pending Requests for Cancellation
Registration No. | Product Name | Chemical Name
100-977 | D·z·n diazinon MG 56% WBC AG | Diazinon
100-978 | D·z·n diazinon MG 22.4% WBC HG | Diazinon
100-979 | D·z·n diazinon MG 87% HG | Diazinon
100-980 | D·z·n diazinon MG 87% AG | Diazinon

Table 2.—Outdoor Non-Agricultural End-Use Product Registrations with Pending Requests for Cancellation
Registration No. | Product Name | Chemical Name
100-456 | D·z·n Lawn & Garden Insect Control | Diazinon
100-468 | D·z·n Granular Lawn Insect Control | Diazinon
100-528 | D·z·n 6000 Lawn & Garden Insect Control | Diazinon
100-770 | D·z·n diazinon Lawn & Garden WBC | Diazinon
100-926 | D·z·n diazinon Garden Insect Dust | Diazinon

Table 3.— Agricultural End-Use Product Registrations with Pending Requests for Cancellation
Registration No. | Product Name | Chemical Name
100-460 | D·z·n diazinon 50W | Diazinon
100-461 | D·z·n diazinon AG500 | Diazinon
100-469 | D·z·n diazinon 14G | Diazinon
100-784 | D·z·n diazinon AG600 WBC | Diazinon

A. Background Information

Diazinon is an organophosphorous insecticide and is one of the most widely used insecticides in the U.S. It is used for outdoor non-agricultural, as well as agricultural, pest control.

Under a December 5, 2000 Memorandum of Agreement (MOA) between Syngenta Crop Protection, Inc. and EPA, Syngenta requested, under FIFRA section 6(f), that EPA cancel, effective as of June 30, 2003, the registrations of all of Syngenta's diazinon manufacturing-use products which are used in formulation for outdoor non-agricultural use. In the MOA, EPA expressed that it would not contemplate permitting sale, distribution or use of existing stocks of these outdoor non-agricultural manufacturing-use products, except for return to the registrant for purposes of relabeling for export, or disposal. In a letter dated April 8, 2003, Syngenta Crop Protection, Inc. requested a voluntary cancellation of all its remaining registrations (agricultural uses) for products containing diazinon, to be effective June 30, 2003. Syngenta's April 8 request is contingent upon EPA's granting of certain existing stocks provisions, which are set forth in Unit IV. of this Notice. EPA intends to grant Syngenta's requests by issuing a cancellation order at the close of the comment period for this announcement, unless the Agency receives substantive comments within the comment period that would merit its further review of these requests.

The Reregistration Eligibility Decision (RED) document summarizes the findings of EPA's reregistration process for individual chemical cases, and reflects the Agency's decision on risk assessment and risk management for uses of individual pesticides. Diazinon belongs to a group of pesticides known as organophosphates (OPs). EPA has issued an Interim Reregistration Eligibility Decision (IRED) document assessing the risks of exposure from diazinon.

B. Requests for Voluntary Cancellation

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless: (1) The registrants request a waiver of the comment period, or (2) the Administrator determines that continued use of the pesticide would pose an unreasonable adverse effect on the environment. Syngenta requested a waiver of the 180-day comment period. The Agency will therefore apply a 30-day comment period.

Unless the Agency determines that there are substantive comments that warrant further review of this request, an order will be issued canceling all of these registrations.

Table 4 of this unit includes the name and address of record for the registrant of the products in Tables 1, 2, and 3 of this unit:

Table 4.—Registrant Requesting Voluntary Cancellation
EPA Company No. | Company Name and Address
100 | Syngenta Crop Protection, Inc, P.O. Box 18300, Greensboro, NC 27419-8300

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Provisions for Disposition of Existing Stocks

The Agency intends to issue a cancellation order following consideration of all comments received during the comment period, unless the comments warrant further review of this request. Any cancellation order issued in response to this request will have an expected effective date of June 30, 2003.

Existing stocks are those stocks of registered pesticide products which are currently in the United States and which have been packaged, labeled, and released for shipment prior to the effective date of the cancellation action. EPA intends to include the following existing stocks provisions in the cancellation order issued pursuant to Syngenta's cancellation requests described in this Notice.

A. Outdoor Non-Agricultural Manufacturing-Use Products

1. Distribution or sale. The distribution or sale of existing stocks of any outdoor non-agricultural manufacturing-use product identified in Table 1 will not be lawful after June 30, 2003, except for the purposes of export consistent with FIFRA section 17 and proper disposal in accordance with applicable law.

2. Use for producing other products. The use of existing stocks of any manufacturing-use product identified in Table 1 for formulation into any other product labeled for outdoor non-agricultural use will not be lawful under FIFRA after June 30, 2003.

B. Outdoor Non-Agricultural End-Use Products

1. Distribution or sale by registrant. The distribution, sale, or use of existing stocks by Syngenta of any product listed in Table 2 in Unit II. will not be lawful under FIFRA after August 31, 2003, except for purposes of shipping such stocks for export consistent with the requirements of FIFRA section 17 or proper disposal in accordance with applicable law.

2. Retail and other distribution or sale. The distribution or sale of existing stocks by persons other than Syngenta will be prohibited after December 31, 2004, except for purposes of product recovery pursuant to the December 5, 2000 MOA, shipping such stocks for export consistent with the requirements of FIFRA section 17, or proper disposal in accordance with applicable law.

3. Use of existing stocks. Use of existing stocks may continue until stocks are exhausted. Any such use must be in accordance with the label.

C. Agricultural Manufacturing-Use Products

1. Distribution or sale, or use by registrant. The distribution, sale, or use of existing stocks by Syngenta of any manufacturing-use product identified in Table 1 in Unit II. for formulation into any other product labeled for agricultural use will not be lawful under FIFRA after August 31, 2003, except for purposes shipping such stocks for export consistent with the requirements of section 17 of FIFRA, or proper disposal in accordance with applicable law.

2. Retail and other distribution, sale, or use. The distribution, sale, or use of existing stocks of any manufacturing-use product identified in Table 1 in Unit II. for formulation into any other product labeled for agricultural use by any person other than Syngenta may continue until stocks are exhausted. Any such use must be in accordance with the label.

D. Agricultural End-Use Products

1. Distribution or sale by registrant. The distribution or sale of existing stocks by Syngenta of any product listed in Table 3 in Unit II. will not be lawful under FIFRA after August 31, 2003 (except for purposes of shipping for exports consistent with the requirements of FIFRA section 17 or proper disposal in accordance with the applicable law).

2. Retail and other distribution, sale, or use. The distribution, sale, or use of existing stocks by any person other than Syngenta may continue until stocks are exhausted. Any such use must be in accordance with the label.

List of Subjects

Environmental protection, Pesticides and pests.

Dated: May 20, 2003.
Lois Rossi,
Director, Special Review and Reregistration Division, Office of Pesticide Programs.

[FR Doc. 03-13436 Filed 5-29-03; 8:45 am]

BILLING CODE 6560-50-S